DEPARTMENT OF THE INTERIOR

Bureau of Land Management

[CA-668-1040-AA]

Santa Rosa and San Jacinto Mountains National Monument Advisory Committee—Notice of Renewal

AGENCY: Bureau of Land Management, Interior.

ACTION: Notice of renewal.

SUMMARY: This notice is published in accordance with section 9(a)(2) of the Federal Advisory Committee Act of 1972 (Pub. L. 92-463). Notice is hereby given that the Secretary of the Interior and the Secretary of Agriculture have renewed the Bureau of Land Management's Santa Rosa and San Jacinto Mountains National Monument Advisory Committee.

The purpose of the Committee is to advise the Secretaries with respect to the preparation and implementation of the Santa Rosa and San Jacinto Mountains National Monument Management Plan.

Certification Statement

I hereby certify that the renewal of the Santa Rosa and San Jacinto Mountains National Monument Advisory Committee is necessary and in the public interest in connection with the Secretary of the Interior's and the Secretary of Agriculture's responsibilities to manage the lands, resources, and facilities administered by the Bureau of Land Management and the Forest Service.

FOR FURTHER INFORMATION CONTACT: Maggie Langlas, National Landscape Conservation System (WO-170), Bureau of Land Management, 1849 C Street, NW., Room 301 LS, Washington, DC 20240-9998, telephone (202) 452-7787.

Gale A. Norton,
Secretary of the Interior.

[FR Doc. 05-19057 Filed 9-22-05; 8:45 am]

BILLING CODE 4310-40-P